DEPARTMENT OF THE INTERIOR

Fish and Wildlife Service

[FWS-R2-R-2010-N203; 20131-1265-2CCP-S3]

Laguna Atascosa National Wildlife Refuge, Cameron and Willacy Counties, TX; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Laguna Atascosa National Wildlife Refuge (NWR). In this final CCP, we describe how we will manage this refuge for the next 15 years.

ADDRESSES: You may view or obtain copies of the final CCP and FONSI/EA by any of the following methods. You may request a hard copy or CD-ROM.

Agency Web Site: Download a copy of the document(s) at http://www.fws.gov/southwest/refuges/Plan/index.html.

E-mail: mark_sprick@fws.gov. Include “Laguna Atascosa final CCP” in the subject line of the message.

Mail: Mark Sprick, AICP, Natural Resource Planner, U.S. Fish and Wildlife Service, Division of Planning, P.O. Box 1306, Albuquerque, NM 87103-1306.

In-Person Viewing or Pickup: Call 505-248-7411 to make an appointment during regular business hours at 500 Gold Avenue, SW., Albuquerque, NM 87102.

FOR FURTHER INFORMATION CONTACT: Sonny Perez, Refuge Manager, Laguna Atascosa NWR, 22817 Ocelot Road, Los Fresnos, TX 78566; by phone, 956-748-3607; or by e-mail, sonny_perez@fws.gov.

SUPPLEMENTARY INFORMATION:

Introduction

With this notice, we finalize the CCP process for the Laguna Atascosa NWR. We started this process through a notice in the Federal Register July 19, 2004 (69 FR 43010).

Laguna Atascosa NWR is located in Cameron and Willacy Counties, Texas, and encompasses 97,007 acres of brush lands, coastal prairies, freshwater and brackish pothole wetlands, estuarine wetlands, lomas (clay ridges), wind tidal flats, and barrier island beaches and dunes. Management efforts focus on protecting, enhancing, and restoring Refuge habitats and water management for the benefit of important fish and wildlife resources. The Refuge is a premiere bird watching destination with 415 recorded bird species, more than any other national wildlife refuge. A total of eight federally listed endangered or threatened species occur within the Refuge, including four species of sea turtles. The largest U.S. population of endangered ocelot cats is located on the Refuge, making it the center for ocelot conservation and recovery.

Laguna Atascosa NWR was formally established by the Migratory Bird Commission on October 31, 1945, and the first tract forming the Refuge was acquired on March 29, 1946. The purposes of the Refuge are: “[F]or use as an inviolate sanctuary, or for any other management purpose, for migratory birds” (Migratory Bird Conservation Act of 1929 (16 U.S.C. 715d), as amended); “for wildlife conservation purposes if the real property has particular value in carrying out the national migratory bird management program” (Transfer of Certain Real Property for Wildlife Conservation Purposes Act of 1948 (16 U.S.C. 667b-667d), Public Law 80-537, as amended); “for the development, advancement, management, conservation and protection of fish and wildlife resources” (Fish and Wildlife Act of 1956 (16 U.S.C. 742(a)(4), as amended); and “for the benefit of the United States Fish and Wildlife Service, in performing its activities and services. Such acceptance may be subject to the terms of any restrictive or affirmative covenant, or condition of servitude” (Fish and Wildlife Act of 1956 (16 U.S.C. 742(b)(1), as amended).

We announce our decision and the availability of the FONSI for the final CCP for the Laguna Atascosa NWR in accordance with National Environmental Policy Act (NEPA) (40 CFR 1506.6(b)) requirements. We completed a thorough analysis of impacts on the human environment, which we included in the EA that accompanied the draft CCP.

The CCP will guide us in managing and administering the Laguna Atascosa National Wildlife Refuge for the next 15 years. Alternative B, with modifications as described in Appendix H (Response to Public Comments), is selected as the management direction for the Final Plan.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP and our EA (74 FR 66148) addressed several issues. To address these, we developed and evaluated the following alternatives.

| A: No-action alternative | B: Proposed action alternative | C: Optimize public-use alternative
Issue 1: Habitat Management Activities | Biological program and habitat management would continue under existing plans; any expansions would occur opportunistically. | Integrated biological and habitat management efforts with landscape-level and ecosystem-level plans; emphasis on protection and monitoring of Federal trust species and priority species and their habitats. | Same as No-Action Alternative (Alternative A).
Issue 2: Improvements to public use opportunities | Limited to current public use under existing plans; any expansions would occur opportunistically. | Improvement of priority public uses, particularly hunting, fishing, and wildlife observation, to meet demand when compatible with wildlife needs and Refuge purposes; expansion of research efforts and dynamic partnerships. | Expand and emphasize all priority public uses, particularly hunting and fishing and access to all Refuge areas to the maximum extent when compatible, based on public comments.
Issue 3: Staffing, Facilities, and Infrastructure | Existing staffing (17 permanent positions) and facilities; any additional staff and facility expansions would occur opportunistically. | Addition of 11 staff to existing base; addition of over 6 miles of hike/bike trails; one auto tour route; two separate parking areas; new visitor center at Laguna Atascosa Unit. Visitor contact and research station at Bahia Grande. | Base funding and staffing would increase by four positions (Outdoor Recreation Planner and three Park Rangers); several additional miles of auto tour routes, seven hike/bike trails and associated parking areas; visitor contact station; all primarily at Bahia Grande.

Comments

We accepted comments on the draft CCP and the EA for the Laguna Atascosa NWR from December 14, 2009, to February 12, 2010 (74 FR 66148). Subsequently, the Draft Plan/EA were made available for public review starting on December 14, 2009, at the Refuge, at eight local municipal and county libraries in the south Texas area near the Refuge, and at the Regional Office in Albuquerque, New Mexico. Four open house meetings were held in communities near the Refuge in January 2010. In all, 98 individuals signed the attendance rosters at the open house meetings and a total of 52 comments were submitted in writing or phoned in to the Refuge/Regional Office. Additionally, one State agency, one university, and six nongovernmental organizations responded prior to the end of the 60-day public comment period. Based on the comments received, we changed the Draft Plan/EA to include: Improved inventory and assessment of water resources to meet protection goals, recommended strategies for bird surveys, modification of a wildlife objective to clarify protections for falcons, and strategies to address future establishment of artificial water sources.

Selected Alternative

After considering the comments we received, we have selected Alternative B for implementation. This alternative describes how habitat objectives will be accomplished through a combination of management activities to encourage ecological integrity, promote restoration of coastal prairie habitats, control invasive plant species, and provide/enhance brush land, wetland and grassland habitat for ocelots, migratory waterfowl, and other resident wildlife. This alternative was selected because it best meets refuge purposes and goals of the Laguna Atascosa National Wildlife Refuge. This action will not adversely impact endangered or threatened species or their habitat. Opportunities for wildlife-dependent recreation activities, such as hunting, fishing, observation, photography, environmental education, and interpretation, will be enhanced. Future management actions will have a neutral or positive impact on the local economy, and the recommendations in the Plan will ensure that Refuge management is consistent with the mission of the National Wildlife Refuge System.

Public Availability of Documents

In addition to the methods in ADDRESSES, you can view or obtain documents at the following locations:

• Our Web site: http://www.fws.gov/southwest/refuges/texas/STRC/laguna/Index_Laguna.html.

• At the following libraries:

Library | Address | Phone number
City of Brownsville Public Library | 2600 Central Blvd., Brownsville, TX 78520-8824 | 956-548-1055
Harlingen Public Library | 410 '76 Drive, Harlingen, TX 78550 | 956-427-8841
Laguna Vista Public Library | 1300 Palm Blvd., Laguna Vista, TX 78578 | 956-943-7155
Los Fresnos Public Library | 402 W. Ocean, Los Fresnos, TX 78566 | 956-233-5330
Port Isabel Public Library | 213 Yturria St., Port Isabel, TX 78578 | 956-943-2265
Willacy County/Reber Memorial Library | 190 N. 4th. St., Raymondville, TX 78580 | 956-689-2930
Rio Hondo Public Library | 121 N. Arroyo Blvd., Rio Hondo, TX 78583 | 956-748-3322
San Benito Public Library | 101 W. Rose St., San Benito, TX 78586 | 956-361-3860

Dated: October 19, 2010.
Joy Nicholopoulos,
Regional Director, Region 2, U.S. Fish and Wildlife Service.

[FR Doc. 2010-30003 Filed 11-29-10; 8:45 am]

BILLING CODE 4310-55-P